FEDERAL COMMUNICATIONS COMMISSION

Notice of Public Information Collection(s) Being Reviewed by the Federal Communications Commission, Comments Requested

October 29, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 10, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-XXXX.

Title: Radio Survey for the Localism Task Force.

Form Number: N/A.

Type of Review: New collection.

Respondents: Business or other for-profit entities; Not-for-profit institutions.

Number of Respondents: 1,151.

Estimated Time per Response: 3-6 hours.

Frequency of Response: One time only.

Total Annual Burden: 5,200 hours (average).

Total Annual Cost: None.

Privacy Impact Assessment: No impact(s).

Needs and Uses: On August 20, 2003, FCC Chairman Michael K. Powell launched the “Localism in Broadcasting” initiative aimed at enhancing localism provided by radio and television broadcasters. Part of that initiative was the formation of the Localism Task Force (LTF). The LTF is tasked with providing the Commission with recommendations to strengthen localism in broadcasting. Among other things, the Chairman directed the LTF to conduct studies to measure localism and the efficacy of the Commission's localism-related rules so that any proposed regulations or actions will best serve the Commission's long-standing goal of promoting localism.

In order to estimate the amount of programming on broadcast radio that contributes to localism, the Commission will record segments of radio broadcasts, totaling two hours per station, from 1151 randomly selected radio stations across the United States. These recorded segments will be transcribed and the contents will be tabulated and organized according to identified program categories. The Commission will ask each radio broadcaster whose airtime was recorded to review the transcript and categorization applicable to that broadcaster's station(s). These survey recordings, along with the transcript and categorization, will be available on the Internet, and radio stations can provide their responses by linking to a Web site. In addition, the Commission will seek related information pertaining to the broadcaster's public service. For those respondents that do not have Internet access, the Commission will provide an alternative means of transmitting the survey results and receiving responses.

Federal Communications Commission.
Marlene H. Dortch,
Secretary.

[FR Doc. 04-24959 Filed 11-8-04; 8:45 am]

BILLING CODE 6712-01-P